DEPARTMENT OF TRANSPORTATION

Federal Aviation Administration

[Docket No. 2022-0176]

Agency Information Collection Activities: Requests for Comments; Clearance of Renewal Approval of Information Collection 2120-0776, Airspace Authorizations in Controlled Airspace

AGENCY: Federal Aviation Administration (FAA), DOT.

ACTION: Notice and request for comments.

SUMMARY: In accordance with the Paperwork Reduction Act of 1995, FAA invites public comments about our intention to request the Office of Management and Budget (OMB) approval to renew Information Collection 2120-0776. The purpose of this notice is to allow 60 days for public comment. The FAA proposes collecting information related to requests made to operate Unmanned Aircraft Systems (UAS) in controlled airspace. FAA will use the collected information to make determinations whether to authorize or deny the requested authorization of UAS operation in controlled airspace. The proposed information collection is necessary to issue such authorizations or denials consistent with the FAA's mandate to ensure safe and efficient use of national airspace.

DATES: Written comments should be submitted by April 19, 2022.

ADDRESSES: Please send written comments:

By Electronic Docket: www.regulations.gov (Enter docket number into search field)

By mail: Atlantic City International Airport, FAA William J. Hughes Technical Center, Bldg. 316, Column I, Desk 4S409, Atlantic City, NJ 08405.

By fax: 202-493-2251.

FOR FURTHER INFORMATION CONTACT: Victoria Gallagher by email at: Victoria.Gallagher@faa.gov; phone: 609-485-5127.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0776.

Title: Airspace Authorizations in Controlled Airspace under 49 U.S.C. 44809(a)(5).

Form Numbers: There are no forms associated with this collection.

Type of Review: Renewal of existing Information Collection.

Background: There has been an increased number of small Unmanned Aircraft Systems (UAS) operating in the National Air Space (NAS) in recent years and regulations and statutes have been enacted to establish the use of small UAS in the NAS. Included in these is 49 U.S.C. 44809(a)(5), which states that a strictly recreational user of small UAS must have authorization from the FAA to fly a small UAS “in Class B, Class C, or Class D airspace or within the lateral boundaries of the surface areas of Class E airspace designated for an airport.” In order to process airspace authorization requests, the FAA requires the operator's name, the operator's contact information, and information related to the date, place, and time of the requested authorization, which can be up to twelve hours in length. This information is necessary for the FAA to meet its statutory mandate of maintaining a safe and efficient national airspace. See 49 U.S.C. 40103, 44701, and 44807. The FAA will use the requested information to determine if the proposed authorization to operate can be conducted safely.

The FAA proposes to use the Low Altitude Authorization and Notification Capability (LAANC) and a web portal to process authorization requests from the public to conduct flight operations pursuant to 49 U.S.C. 44809(a)(5).

Respondents: Small UAS operators seeking to conduct flight operations under 49 U.S.C. 44809(a)(5) within controlled airspace. Between 2022-2025, the FAA estimates that it will receive a total of 757,380 requests for airspace authorization (735,416 through LAANC and 21,964 through the web portal).

Frequency: The requested information is necessary each time a respondent requests an airspace authorization to operate a small UAS under 49 U.S.C. 44809(a)(5) in controlled airspace.

Estimated Average Burden per Response: The FAA estimates the respondents using LAANC will take five (5) minutes per airspace authorization request and those using the web portal will take thirty (30) minutes per request.

Estimated Total Annual Burden: For airspace authorizations, the FAA estimates that the average annual burden will be 24,007 burden hours. This includes 20,346 burden hours for 245,139 LAANC respondents and 3,661 burden hours for 7,321 web portal respondents.

Issued in Washington, DC, on February, 14, 2022.
Victoria Gallagher,
sUAS LAANC Program Manager, FAA Air Traffic Organization, AJM-337.

[FR Doc. 2022-03506 Filed 2-17-22; 8:45 am]

BILLING CODE 4910-13-P